DEPARTMENT OF LABOR

Employment and Training Administration

[TA-W-52,412]

Lear Corporation, SSD Division, Elsie, MI; Dismissal of Application for Reconsideration

Pursuant to 29 CFR 90.18(C) an application for administrative reconsideration was filed with the Director of the Division of Trade Adjustment Assistance for workers at Lear Corporation, SSD Division, Elsie, Michigan. The application contained no new substantial information which would bear importantly on the Department's determination. Therefore, dismissal of the application was issued.

TA-W-52,412; Lear Corporation, SSD Division Elsie, Michigan (December 16, 2003)

Signed at Washington, DC this 27th day of January 2004.
Timothy Sullivan,
Director, Division of Trade Adjustment Assistance.

[FR Doc. 04-2606 Filed 2-5-04; 8:45 am]

BILLING CODE 4510-30-P